DEPARTMENT OF COMMERCE

National Oceanic and Atmospheric Administration

Evaluation of State Coastal Management Program and National Estuarine Research Reserves

AGENCY: National Oceanic and Atmospheric Administration (NOAA), Office of Ocean and Coastal Resource Management, National Ocean Service, Commerce

ACTION: Notice of Intent to Evaluate.

SUMMARY: The NOAA Office of Ocean and Coastal Resource Management (OCRM) announces its intent to evaluate the performance of the Indiana Coastal Management Program, Waquoit Bay National Estuarine Research Reserve, and Chesapeake Bay National Estuarine Research Reserve in Virginia.

The Coastal Zone Management Program evaluations will be conducted pursuant to section 312 of the Coastal Zone Management Act of 1972, as amended (CZMA) and regulations at 15 CFR part 923, Subpart L. The CZMA requires continuing review of the performance of states with respect to coastal management program implementation. Evaluation of a Coastal Management Program requires findings concerning the extent to which a state has met the national objectives, adhered to its Coastal Management Program document approved by the Secretary of Commerce, and adhered to the terms of financial assistance awards funded under the CZMA.

The National Estuarine Research Reserve evaluation will be conducted pursuant to sections 312 and 315 of the CZMA and regulations at 15 CFR part 921, subpart E and part 923, subpart L. Evaluation of a National Estuarine Research Reserve requires findings concerning the extent to which a state has met the national objectives, adhered to its Reserve final management plan approved by the Secretary of Commerce, and adhered to the terms of financial assistance awards funded under the CZMA.

The evaluations will include a public meeting, consideration of written public comments and consultations with interested Federal, state, and local agencies and members of the public. When the evaluation is completed, OCRM will place a notice in the Federal Register announcing the availability of the Final Evaluation Findings. Notice is hereby given of the date, local time, and location of the public meeting.

Date and Time: The Indiana Coastal Management Program public meeting will be held on Tuesday, September 9 at 5:00 p.m. local time at Indiana Dunes State Park, 1600 N 25 E., Chesterton, Indiana 46304.

The Waquoit Bay National Estuarine Research Reserve public meeting will be held on Wednesday, September 10 at 4:00 p.m. local time at the Reserve Visitor Center, 131 Waquoit Hwy (Rt. 28), Waquoit (E. Falmouth), MA 02536.

The Chesapeake Bay National Estuarine Research Reserve in Virginia public meeting will be held on Wednesday, September 17, at 5:00 p.m. local time at the Wilson House at 7581 Spencer Road, Glouster Point, VA 23062.

ADDRESSES: Copies of each state's most recent performance report, as well as OCRM's evaluation notification letter to the state, are available upon request from OCRM. Written comments from interested parties regarding these programs are encouraged and will be accepted until August 12, 2014 for the Indiana Coastal Management Program and Waquoit Bay National Estuarine Research Reserve and will be accepted until August 19, 2014 for the Chesapeake Bay National Estuarine Research Reserve in Virginia. Please direct written comments to Carrie Hall, Evaluator, National Policy and Evaluation Division, Office of Ocean and Coastal Resource Management, NOS/NOAA, 1305 East-West Highway, 10th Floor, N/ORM7, Silver Spring, Maryland 20910, or Carrie.Hall@noaa.gov.

FOR FURTHER INFORMATION CONTACT: Carrie Hall, Evaluator, National Policy and Evaluation Division, Office of Ocean and Coastal Resource Management, NOS/NOAA, 1305 East-West Highway, 10th Floor, N/ORM7, Silver Spring, Maryland 20910, (301) 563-1135, or Carrie.Hall@noaa.gov.

Dated: July 18, 2014.
Christopher C. Cartwright,
Associate Assistant Administrator for Management and CFO/CAO, Ocean Services and Coastal Zone Management National Oceanic and Atmospheric Administration.

[FR Doc. 2014-17539 Filed 7-24-14; 8:45 am]

BILLING CODE 3510-08-P